DEPARTMENT OF ENERGY

Federal Energy Regulatory Commission

Combined Notice of Filings # 1

September 18, 2008.

Take notice that the Commission received the following exempt wholesale generator filings:

Docket Numbers: EG08-92-000.

Applicants: Ashtabula Wind, LLC.

Description: Ashtabula Wind, LLC Amendment to Self-Certification of Exempt Wholesale Generator Status.

Filed Date: 09/15/2008.

Accession Number: 20080915-5141.

Comment Date: 5 p.m. Eastern Time on Monday, October 06, 2008.

Take notice that the Commission received the following electric rate filings:

Docket Numbers: ER01-48-013.

Applicants: Powerex Corp.

Description: Notice of Change in Status.

Filed Date: 09/15/2008.

Accession Number: 20080915-5100.

Comment Date: 5 p.m. Eastern Time on Monday, October 6, 2008.

Docket Numbers: ER01-1403-007; ER06-1443-004; ER04-366-006; ER01-2968-009; ER01-845-007; ER05-1122-005; ER08-107-002.

Applicants: FirstEnergy Operating Companies, Pennsylvania Power Company, Jersey Central Power & Light Co., FirstEnergy Solutions Corp., FirstEnergy Generation Corporation, FirstEnergy Nuclear Generation Corporati, FirstEnergy Generation Mansfield Unit 1.

Description: FirstEnergy Corp submits a recent telephone request of FERC Starff re Substitute First Revised Sheet 16 et a to FERC Electric Tariff, Second Revised Volume 2.

Filed Date: 09/11/2008.

Accession Number: 20080916-0089.

Comment Date: 5 p.m. Eastern Time on Thursday, October 2, 2008.

Docket Numbers: ER08-951-002.

Applicants: PSEG Energy Resources & Trade LLC.

Description: PSEG Energy Resources & Trade, LLC submits a response to the 8/14/08 deficiency letter issued by the Commission Staff concerning its 5/13/08 filing of a new a rate schedule, as amended on 7/7/08, setting forth the cost-based revenue etc.

Filed Date: 09/15/2008.

Accession Number: 20080916-0093.

Comment Date: 5 p.m. Eastern Time on Monday, October 6, 2008.

Docket Numbers: ER08-1152-001.

Applicants: Potomac Electric Power Company.

Description: Potomac Electric Power Co submits an executed Interconnection Agreement with Panda-Brandywine, LP in compliance with FERC's 6/23/08 Order.

Filed Date: 09/15/2008.

Accession Number: 20080916-0081.

Comment Date: 5 p.m. Eastern Time on Monday, October 6, 2008.

Docket Numbers: ER08-1288-001.

Applicants: Wapsipinicon Wind Project LLC.

Description: Wapsipinicon Wind Project, LLC responds to FERC Staff Request and request for shortened comment period.

Filed Date: 09/15/2008.

Accession Number: 20080917-0125.

Comment Date: 5 p.m. Eastern Time on Friday, September 26, 2008.

Docket Numbers: ER08-1425-002.

Applicants: ML Partnership, LLC.

Description: ML Partnership, LLC submits an updated Petition and FERC Electric tariff, Original Volume 1.

Filed Date: 09/15/2008.

Accession Number: 20080916-0082.

Comment Date: 5 p.m. Eastern Time on Monday, October 6, 2008.

Docket Numbers: ER08-1521-000.

Applicants: American Electric Power System Corp.

Description: AEP East Operating Companies et al submits its calculation of the revenue requirement for Reactive Supply and Voltage Control from Generation Sources Service.

Filed Date: 09/11/2008.

Accession Number: 20080916-0085.

Comment Date: 5 p.m. Eastern Time on Thursday, October 2, 2008.

Docket Numbers: ER08-1524-000.

Applicants: Duke Energy Carolinas, LLC.

Description: Duke Energy Carolinas, LLC submits for filing Third Revised Rate Schedule 317, the Second Amended and Restated Partial Requirements Power Purchase Agreement with Rutherford Electric Membership Corp.

Filed Date: 09/11/2008.

Accession Number: 20080916-0202.

Comment Date: 5 p.m. Eastern Time on Thursday, October 2, 2008.

Docket Numbers: ER08-1533-000.

Applicants: Tor Power, LLC.

Description: Tor Power, LLC submits notice cancelling its market-based rate tariff, FERC Electric Tariff, First Revised Volume 1.

Filed Date: 09/15/2008.

Accession Number: 20080916-0086.

Comment Date: 5 p.m. Eastern Time on Monday, October 6, 2008.

Docket Numbers: ER08-1534-000.

Applicants: Midwest Independent System Transmission.

Description: Midwest Independent Transmission System Operator, Inc submits a Transmission to Transmission Interconnection Agreement among Great River Energy, a Minnesota cooperative corporation, Northern States Power Company etc.

Filed Date: 09/15/2008.

Accession Number: 20080916-0091.

Comment Date: 5 p.m. Eastern Time on Monday, October 6, 2008.

Docket Numbers: ER08-1536-000.

Applicants: Xcel Energy Services Inc.

Description: Northern States Power Company-MN submits the Consent and Assignment Agreement dated 7/9/08 with Moraine Wind, LLC et al pursuant to Order 614 designated as Supplement 1 to Original Agreement 206-NSP.

Filed Date: 09/15/2008.

Accession Number: 20080916-0079.

Comment Date: 5 p.m. Eastern Time on Monday, October 6, 2008.

Docket Numbers: ER08-1538-000.

Applicants: Northern States Power Company.

Description: Northern States Power Company-MN and Northern States Power Company-WI submits a Notice of Cancellation for six Legacy Transmission Service Agreements.

Filed Date: 09/15/2008.

Accession Number: 20080916-0080.

Comment Date: 5 p.m. Eastern Time on Monday, October 6, 2008.

Docket Numbers: ER08-1540-000.

Applicants: Virginia Electric and Power Company.

Description: Virginia Electric and Power Company submits a new Attachment H-16E to their Open Access Transmission Tariff setting forth a Deferral Recovery Charge to recover regional transmission organization costs etc.

Filed Date: 09/12/2008.

Accession Number: 20080916-0100.

Comment Date: 5 p.m. Eastern Time on Friday, October 3, 2008.

Docket Numbers: ER08-1541-000.

Applicants: Alabama Power Company.

Description: Alabama Power Company submits an amended Interconnection Agreement with Tenaska Alabama II Partners LP etc.

Filed Date: 09/12/2008.

Accession Number: 20080916-0101.

Comment Date: 5 p.m. Eastern Time on Friday, October 3, 2008.

Docket Numbers: ER08-1543-000.

Applicants: Southwest Power Pool, Inc.

Description: Southwest Power Pool, Inc submits revised pages to their Open Access Transmission Tariff intended to amend the rate changes for Westar Energy, Inc et al.

Filed Date: 09/15/2008.

Accession Number: 20080917-0131.

Comment Date: 5 p.m. Eastern Time on Monday, October 6, 2008.

Docket Numbers: ER08-1544-000.

Applicants: E. ON U.S. LLC.

Description: E. ON U.S., LLC on behalf of Louisville Gas and Electric Co et al. submits proposed revisions to its OATT.

Filed Date: 09/15/2008.

Accession Number: 20080917-0128.

Comment Date: 5 p.m. Eastern Time on Monday, October 6, 2008.

Docket Numbers: ER08-1546-000.

Applicants: Southwest Power Pool, Inc.

Description: Southwest Power Pool, Inc submits an executed Second Amended Interchange Agreement with Associated Electric Cooperative, Inc et al.

Filed Date: 09/16/2008.

Accession Number: 20080917-0243.

Comment Date: 5 p.m. Eastern Time on Tuesday, October 7, 2008.

Docket Numbers: ER08-1547-000.

Applicants: PacifiCorp.

Description: PacifiCorp submits Network Integration Transmission Service Agreement dated 8/19/08 with Basin Electric Power Cooperative designated as Service Agreement 505, Seventh Revised Volume 11 OATT et al.

Filed Date: 09/17/2008.

Accession Number: 20080917-0241.

Comment Date: 5 p.m. Eastern Time on Wednesday, October 8, 2008.

Take notice that the Commission received the following open access transmission tariff filings:

Docket Numbers: OA07-115-002.

Applicants: Alcoa Power Generating Inc.

Description: Order No. 890 OATT Attachment C.

Filed Date: 09/15/2008.

Accession Number: 20080915-5164.

Comment Date: 5 p.m. Eastern Time on Monday, October 6, 2008.

Docket Numbers: OA08-156-000.

Applicants: Aquila, Inc.

Description: Order No. 890-B Compliance Filing.

Filed Date: 09/17/2008.

Accession Number: 20080917-5002.

Comment Date: 5 p.m. Eastern Time on Wednesday, October 8, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E8-23497 Filed 10-3-08; 8:45 am]

BILLING CODE 6717-01-P